DEPARTMENT OF TRANSPORTATION

Federal Aviation Administration

14 CFR Part 39

[Docket No. FAA-2006-23648; Directorate Identifier 2006-CE-07-AD; Amendment 39-14514; AD 2006-06-06]

RIN 2120-AA64

Airworthiness Directives; The Cessna Aircraft Company Models 208 and 208B Airplanes

AGENCY: Federal Aviation Administration (FAA), DOT.

ACTION: Final rule; request for comments.

SUMMARY: The FAA is adopting a new airworthiness directive (AD) to supersede AD 2005-07-01, which applies to all The Cessna Aircraft Company (Cessna) Models 208 and 208B airplanes. AD 2005-07-01 currently requires you to incorporate information into the applicable section of the Airplane Flight Manual (AFM). This AD is the result of several accidents/incidents with the affected airplanes during operations in icing conditions, FAA evaluation of Cessna flight test data, Cessna issuing AFM revisions, and FAA determining these revisions are necessary for safe operation. Consequently, this AD updates the actions of AD 2005-07-01 that require incorporation of text in the AFM and requires the insertion of new text in the AFM, and the fabrication and installation of placards. We are issuing this AD to assure that the pilot has enough information to prevent loss of control of the airplane while in-flight during icing conditions.

DATES: This AD becomes effective on March 24, 2006.

We must receive any comments on this AD by May 22, 2006.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact The Cessna Aircraft Company, Product Support, P.O. Box 7706, Wichita, Kansas 67277-7706; telephone: (316) 517-5800; facsimile: (316) 942-9006.

To view the comments to this AD, go to http://dms.dot.gov. The docket number is FAA-2006-23648; Directorate Identifier 2006-CE-07-AD.

FOR FURTHER INFORMATION CONTACT: Robert P. Busto, Aerospace Engineer, Wichita Aircraft Certification Office, FAA, 1801 Airport Road, Wichita, Kansas 67209; telephone: (316) 946-4157; facsimile: (316) 946-4107.

SUPPLEMENTARY INFORMATION: Has FAA taken any action to this point? Several accidents/incidents with Cessna Models 208 and 208B airplanes during operations in icing conditions, including six accidents in the 2003/2004 and 2004/2005 icing seasons, and nine events in the 2004/2005 icing season caused us to issue AD 2005-07-01, Amendment 39-14025 (70 FR 15223, March 25, 2005). AD 2005-07-01 currently requires you to incorporate information into the applicable section of the Airplane Flight Manual (AFM) on Cessna Models 208 and 208B. This accident/incident data and the evaluation of recent Cessna flight test data prompted us to issue AD 2006-01-11, Amendment 39-14450 (71 FR 1941). AD 2006-01-11 requires the installation of a pilot assist handle, pneumatic deicing boots on the cargo pod and landing gear struts, and changes to the Limitations section of AFM if the airplane is to be operated in ground icing conditions and approved for flight into known or forecast icing conditions.

What has happened since AD 2005-07-01 to initiate this AD action? So far for the icing season of 2005/2006, the FAA is aware of the following:

• On October 6, 2005, a fatal accident occurred shortly after takeoff in which the pilot reported a failure to maintain altitude while in icing conditions and a subsequent loss of control.

• On November 19, 2005, a Model C208 experienced a loss of controlled flight while in icing conditions during descent that resulted in a fatal accident.

• On November 22, 2005, an incident occurred in which a Model C208 suffered a loss of control during climb with the autopilot engaged in icing conditions.

• On December 5, 2005, Cessna published revisions to the AFM Icing Supplement. These revisions incorporated climb performance data in icing based on a natural icing encounter in moderate, mixed conditions.

• Cessna briefed the FAA that flight testing with ice shapes representing intercycle ice in a moderate, clear ice encounter showed the actual climb performance is lower than the data published in the AFM Icing Supplement revision, dated December 5, 2005, and that the aural stall warning system will not activate prior to stall in some icing conditions.

• The AFM Icing Supplement, dated December 5, 2005, contained incorrect maximum weight limits for the 600 HP versions of the Model 208.

In summary, for the nine events that occurred during the 2004/2005 icing season, airplane performance was degraded to a point in which altitude could not be maintained or the airplane could not climb to exit icing conditions. In one accident and one incident this 2005/2006 icing season, inadequate situational awareness may have contributed to a loss of controlled flight and in the one case may have resulted in an accident.

What is the potential impact if FAA took no action? If the pilot does not have enough information to conduct safe flight into icing conditions in the AFM, then loss of control of the airplane could occur.

Is there service information that applies to this subject? Cessna has developed revisions to the FAA-approved AFM to address this issue, as follows:

Document | Affects
Temporary Revision 208PHTR05, dated June 27, 2005, to the FAA-approved Airplane Flight Manual | Cessna Model 208, all models and serial numbers.
Revision 6 of the 208 (675 SHP) FAA-approved Flight Manual Supplement 1 “Known Icing Equipment”, Cessna document D1352-S1-06, dated June 27, 2005 | Cessna Model 208 airplanes with a Pratt & Whitney of Canada Ltd., PT6A-114 turboprop engine installed (675 SHP) or FAA-approved engine of equivalent horsepower installed, except airplanes modified by Supplemental Type Certificate SA00892WI.
Revision 6 of the 208 (600 SHP) FAA-SHP) FAA-approved Flight Manual Supplement S1 “Known Icing Equipment”, Cessna document D1307-S1-06, dated June 27, 2005 | Cessna Model 208 airplanes with a Pratt & Whitney of Canada Ltd., PT6A-114 turboprop engine installed (600 SHP) or FAA-approved engine of equivalent horsepower installed, except airplanes modified by Supplemental Type Certificate SA00892WI.
Revision 7 of the 208B (675 SHP) FAA-approved Flight Manual Supplement S1 “Known Icing Equipment”, Cessna document D1329-S1-07, dated June 27, 2005 | Cessna Model 208B airplanes with a Pratt & Whitney of Canada Ltd., PT6A-114A turboprop engine installed (675 SHP) or FAA-approved engine of equialent horsepower installed, except airplanes modified by Supplemental Type Certificate SA00892WI.
Revision 6 of the 208B (600 SHP) FAA-approved Flight Manual Supplement S1 “Known Icing Equipment”, Cessna document D1309-S1-06, dated June 27, 2005 | Cessna Model 208B airplanes with a Pratt & Whitney of Canda Ltd., OT6A-114 turboprop engine installed (600 SHP) or FAA-approved engine of equivalent horsepower installed, except airplanes modified by Supplemental Type Certificate SA00892WI.

FAA's Determination and Requirements of the AD

What has FAA decided? We have evaluated all pertinent information and identified an unsafe condition that is likely to exist or develop on other Cessna Models 208 and 208B airplanes of the same type design. Therefore, we are issuing this AD to assure that the pilot has enough information to prevent loss of control of the airplane while in-flight during icing conditions.

What does this AD require? This AD supersedes AD 2005-07-01 with a new AD that requires the incorporation of later revisions to the FAA-approved AFM and FAA-approved AFM Supplement S1 “Known Icing Equipment”, requires the incorporation of new text in the Limitations Section of the AFM and AFM Supplement, requires the incorporation of new text in the Performance Section of the AFM Supplement, and the fabrication and installation of placards.

In preparing this rule, we contacted type clubs and aircraft operators last winter to get technical information and information on operational and economic impacts. We received comments on the performance of the airplane in moderate icing conditions, however we did not receive any comments related to the low speed annunciation system. Although we have not previously proposed limitations on autopilot use in icing, the limitation on autopilot use is an interim action until an acceptable low speed annunciation system is developed and installed on the airplane. We have included a discussion of information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2006-23648; Directorate Identifier 2006-CE-07-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket FAA-2006-23648; Directorate Identifier 2006-CE-07-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-07-01, Amendment 39-14025 (70 FR 15223, March 25, 2005), and by adding a new AD to read as follows:

2006-06-06 The Cessna Aircraft Company: Amendment 39-14514; Docket No. FAA-2006-23648; Directorate Identifier 2006-CE-07-AD.

When Does This AD Become Effective?

(a) This AD becomes effective on March 24, 2006.

Are Any Other ADs Affected By This Action?

(b) Yes. This AD supersedes AD 2005-07-01; Amendment 39-14025.

What Airplanes Are Affected by This AD?

(c) This AD affects Models 208 and 208B, all serial numbers, that are certificated in any category.

What is the Unsafe Condition Presented in This AD?

(d) This AD is the result of several accidents/incidents with the affected airplanes during operations in icing conditions, FAA evaluation of Cessna flight test data, Cessna issuing service information, and FAA evaluating the service information. We are issuing this AD to assure that the pilot has enough information to prevent loss of control of the airplane while in-flight during icing conditions.

What Must I Do To Address This Problem?

(e) No later than March 27, 2006 (3 days after the effective date of this AD of March 24, 2006), incorporate the following revisions into the Airplane Flight Manual (AFM):

Affected airplanes | Incorporate the following AFM revision document
(1) Cessna Model 208 airplanes and Model 208B airplanes, all serial numbers | Section 2: Limitations and Section 4: Normal Procedures: Temporary Revision 208PHTR05, dated June 27, 2005, to the Pilots Operating Handbook (POH) and FAA-approved Airplane Flight Manual (AFM).
(2) Cessna Model 208 airplanes with a Pratt & Whitney of Canada Ltd., PT6A-114A turboprop engine installed (675 SHP) or FAA-approved engine of equivalent horsepower installed, equipped with airframe deicing pneumatic boots, that are not currently prohibited from flight in known or forecast icing | Section 9: Optional Systems Description and Operating Procedures: Revision 6 of the 208 (675 SHP) POH/FAA-approved AFM Supplement S1 “Known Icing Equipment”, Cessna document D1352-S1-06, dated June 27, 2005.
(3) Cessna Model 208 airplanes with a Pratt & Whitney of Canada Ltd., PT6A-114 turboprop engine installed (600 SHP) or FAA-approved engine of equivalent horsepower installed, equipped with airframe deicing pneumatic boots, that are not currently prohibited from flight in known or forecast icing | Section 9: Optional Systems Description and Operating Procedures: Revision 6 of the Cessna Model 208 (600 SHP) POH/FAA-approved AFM Supplement S1 “Known Icing Equipment”, Cessna document D1307-S1-06, dated June 27, 2005.
(4) Cessna Model 208B airplanes with a Pratt & Whitney of Canada Ltd., PT6A-114A turboprop engine installed (675 SHP) or FAA-approved engine of equivalent horsepower installed, equipped with airframe deicing pneumatic boots, that are not currently prohibited from flight in known or forecast icing | Section 9: Optional Systems Description and Operating Procedures: Revision 7 of the 208B (675 SHP) POH/FAA-approved AFM Supplement S1 “Known Icing Equipment”, Cessna document D1329-0S1-007, dated June 27, 2005.
(5) Cessna Model 208B airplanes with a Pratt & Whitney of Canada Ltd., PT6A-114 turboprop engine installed (600 SHP) or FAA-approved engine of equivalent horsepower installed, equipped with airframe deicing pneumatic boots, that are not of the currently prohibited from flight in known or forecast icing | Section 9: Optional Systems Description and Operating Procedures: Revision 6 208B (600 SHP) POH/FAA-approved AFM Supplement S1 “Known Icing Equipment”, Cessna document D1309-0S1-006, dated June 27, 2005.

(f) You must do the following, unless already done. These changes are to the Pilots Operating Handbook (POH) and FAA-approved AFM and to the POH/FAA-approved AFM Supplement S1 “Known Icing Equipment” mandated in paragraph (e) of this AD:

Actions | Compliance | Procedures
(1) For Cessna Model 208 airplanes and Model 208B airplanes, all serial numbers, equipped with airframe deicing pneumatic boots, that are not currently prohibited from flight in known or forecast icing: You are prohibited from continued flight after encountering moderate or greater icing conditions. The airplane can dispatch into forecast areas of icing but must exit moderate or greater icing conditions if encountered | No later than March 27, 2006 (3 days after the effective date of this AD of March 24, 2006) | Not Applicable.
(2) For Cessna Model 208 airplanes and Model 208B airplanes, all serial numbers, equipped with airframe deicing pneumatic boots, that are not currently prohibited from flight in known or forecast icing: (i) Insert the text in Appendix 1 of this AD preceding the KINDS OF OPERATION LIMITS paragraph in the LIMITATIONS section of the Cessna Models 208 or 208B Pilot's Operating Handbook (POH) and FAA-approved Airplane Flight Manual (AFM) (ii) Insert the text in Appendix 2 of this AD in the LIMITATIONS section of the Cessna Models 208 or 208B POH and FAA-approved AFM KNOWN ICING EQUIPMENT SUPPLEMENT S1 at the beginning of the paragraph “REQUIRED EQUIPMENT” | No later than March 27, 2006 (3 days after the effective date of this AD of March 24, 2006) | The owner/operator holding at least a private pilot certificate as authorized by section 43.7 of the Federal Aviation Regulations (14 CFR 43.7) may insert the information into the POH as specified in paragraph (f)(2) of this AD. You may insert a copy of this AD into the appropriate sections of the POH to comply with this action. Make an entry into the aircraft records showing compliance with portion of the AD in accordance with section 43.9 of the Federal Aviation Regulations (14 CFR 43.9).
(3) For Cessna Model 208 airplanes and Model 208B airplanes, all serial numbers, equipped with airframe deicing pneumatic boots, that are not currently prohibited from flight in known or forecast icing: Install 3 placards with black letters on a white background. The placards shall be located on the instrument panel in one of the following areas: under the radio stack, immediately above the pilot's flight instruments, or below the pilot's vertical speed indicator. Lettering on the placard shall be a minimum height of ⅛-inch (i) Placard 1 shall include the text of Appendix 3 of this AD (ii) Placard 2 shall include the following text: “120 KIAS Minimum in Icing Flaps UP except 110 KIAS if Climbing to Exit Icing” (iii) Placard 3 shall include the following text: “Disconnect autopilot at first indication of ice accretion” | No later than March 27, 2006 (3 days after the effective date of this AD of March 24, 2006) | The owner/operator holding at least a private pilot certificate as authorized by section 43.7 of the Federal Aviation Regulations (14 CFR 43.7) may install the placards as specified in paragraph (f)(3) of this AD. You may insert a copy of this AD into the appropriate sections of the POH to comply with this action. Make an entry into the aircraft records showing compliance with portion of the AD in accordance with section 43.9 of the Federal Aviation Regulations (14 CFR 43.9).
(4) For Cessna Model 208 airplanes and Model 208B airplanes, all serial numbers, equipped with airframe deicing pneumatic boots, that are not currently prohibited from flight in known or forecast icing: (i) Insert the text in Appendix 4 of this AD under the “AIRSPEED LIMITATIONS” paragraph in the LIMITATIONS section of the Cessna Models 208 or 208B POH and FAA-approved AFM (ii) Replace the text in the KNOWN ICING EQUIPMENT SUPPLEMENT S1 UNDER THE “MINIMUM SPEED IN ICING CONDITIONS” paragraph with the text in Appendix 4 (iii) Insert the following text in the LIMITATIONS section of the POH/AFM under the “OTHER LIMITATIONS” paragraph and in the LIMITATIONS section of the KNOWN ICING EQUIPMENT SUPPLEMENT S1 under the “AUTOPILOT OPERATIONS IN ICING CONDITIONS” paragraph: “Disconnect autopilot at first indication of ice accretion” | No later than March 27, 2006 (3 days after the effective date of this AD of March 24, 2006) | The owner/operator holding at least a private pilot certificate as authorized by section 43.7 of the Federal Aviation Regulations (14 CFR 43.7) may insert the information into the POH as specified in paragraph (f)(4) of this AD. You may insert a copy of this AD into the appropriate sections of the POH to comply with this action. Make an entry into the aircraft records showing compliance with portion of the AD in accordance with section 43.9 of the Federal Aviation Regulations (14 CFR 43.9).
(5) For Cessna Model 208 airplanes and Model 208B airplanes, all serial numbers, equipped with airframe deicing pneumatic boots, that are not currently prohibited from flight in known or forecast icing: (i) Replace the text in the PERFORMANCE section of the Cessna Models 208 or 208B POH and FAA-approved AFM KNOWN ICING EQUIPMENT SUPPLEMENT S1 UNDER THE “STALL SPEEDS” paragraph with the text in Appendix 5 (ii) Replace the “WARNING” text in the LIMITATIONS section of the Cessna Models 208 or 208B POH and FAA-approved AFM KNOWN ICING EQUIPMENT SUPPLEMENT S1 under “ENVIRONMENTAL CONDITIONS” with: “FLIGHT IN THESE CONDITIONS ARE PROHIBITED” (iii) Replace the last two sentences in the LIMITATIONS section of the Cessna Models 208 or 208B POH and FAA-approved AFM KNOWN ICING EQUIPMENT SUPPLEMENT S1 under “ENVIRONMENTAL CONDITIONS” with the following text: “Exit strategies should be determined during preflight planning” | No later than March 27, 2006 (3 days after the effective date of this AD of March 24, 2006) | The owner/operator holding at least a private pilot certificate as authorized by section 43.7 of the Federal Aviation Regulations (14 CFR 43.7) may insert the information into the POH as specified in paragraph (f)(5) of this AD. You may insert a copy of this AD into the appropriate sections of the POH to comply with this action. Make an entry into the aircraft records showing compliance with portion of the AD in accordance with section 43.9 of the Federal Aviation Regulations (14 CFR 43.9).

How Do I Remove the Icing Prohibition of Paragraph (f)(1) of This AD?

(g) The prohibition from continued flight after encountering moderate or greater icing conditions (the prohibition of paragraph (f)(1) of this AD) may be removed when all of the following occurs:

(1) The FAA, with Cessna's assistance, determines that the aircraft models can operate safely in icing conditions, and any required information from this activity is made available to operators;

(2) The FAA approves a Low Speed Awareness System, that as a minimum incorporates an aural warning and activates at a minimum of 110 KIAS, and it is scheduled for installation on your aircraft within an acceptable amount of time;

(3) You comply with AD 2006-01-11, Amendment 39-14450 (71 FR 1941) (or later revised AD), as required for your aircraft, and

(4) The FAA will notify operators about paragraphs (g)(1) and (g)(2) of this AD by either distribution of a special airworthiness information bulletin (SAIB) such that operators can apply for an alternative method of compliance and/or through a revision of this AD.

May I Request an Alternative Method of Compliance?

(h) You may request a different method of compliance or a different compliance time for this AD by following the procedures in 14 CFR 39.19. Unless FAA authorizes otherwise, send your request to your principal inspector. The principal inspector may add comments and will send your request to the Manager, Wichita Aircraft Certification Office (ACO), FAA. The alternative method of compliance to AD 2005-07-01, dated June 22, 2005 has now been incorporated into the rule. For information on any already approved alternative methods of compliance, contact Robert P. Busto, Aerospace Engineer, Wichita ACO, FAA, 1801 Airport Road, Wichita, Kansas 67209; telephone: (316) 946-4157; facsimile: (316) 946-4107.

May I Get Copies of the Document Referenced in This AD?

(i) You may obtain the service information referenced in this AD from The Cessna Aircraft Company, Product Support, P.O. Box 7706, Wichita, Kansas 67277-7706; telephone: (316) 517-5800; facsimile: (316) 942-9006. To view the AD docket, go to the Docket Management Facility; U.S. Department of Transportation, 400 Seventh Street, SW., Nassif Building, Room PL-401, Washington, DC, or on the Internet at http://dms.dot.gov. The docket number is FAA-2006-23648; Directorate Identifier 2006-CE-07-AD.

Appendix 1 to AD 2006-06-06—Changes to the Cessna Models 208 or 208B Pilot's Operating Handbook (POH) and FAA-Approved Airplane Flight Manual

Affected Cessna Models 208 or 208B Pilot's Operating Handbook (POH) and FAA-Approved Airplane Flight Manual (AFM)

Insert the following text at the beginning of the KINDS OF OPERATION LIMITS paragraph in the LIMITATIONS section of the Cessna Models 208 or 208B Pilot's Operating Handbook (POH) and FAA-Approved Airplane Flight Manual (AFM). This may be done by inserting a copy of this AD into the POH/AFM:

“Continued flight after encountering moderate or greater icing conditions is prohibited. One or more of the following defines moderate icing conditions for this airplane:

Indicated airspeed in level cruise flight at constant power decreases by 20 knots.

Engine torque required to maintain airspeed increases by 400 ft. lbs.

Airspeed of 120 KIAS cannot be maintained in level flight.

An accretion of ¼-inch of ice is observed on the wing strut.

Disregard any mention of approval for flight in icing conditions within the POH/AFM.”

Appendix 2 to AD 2006-06-06—Changes to the Cessna Models 208 or 208B Pilot's Operating Handbook (POH) and FAA-Approved Airplane Flight Manual

Affected Cessna Models 208 or 208B Pilot's Operating Handbook (POH) and FAA-Approved Airplane Flight Manual (AFM)

Insert the following text in the LIMITATIONS section of the POH and FAA-approved AFM KNOWN ICING EQUIPMENT SUPPLEMENT S1, at the beginning of the paragraph “REQUIRED EQUIPMENT”. This may be done by inserting a copy of this AD into the POH/AFM:

“Continued flight after encountering moderate or greater icing conditions is prohibited. One or more of the following defines moderate icing conditions for this airplane:

Indicated airspeed in level flight at constant power decreases by 20 knots.

Engine torque required to maintain airspeed increases by 400 ft. lbs.

Airspeed of 120 KIAS cannot be maintained in level flight.

An accretion of ¼-inch of ice is observed on the wing strut.

Disregard any mention of approval for flight in icing conditions within the POH/AFM.”

Appendix 3 to AD 2006-06-06—Cessna Model 208 Airplanes and Model 208B Airplanes, Equipped With Airframe Deicing Pneumatic Boots, That Are Not Currently Prohibited From Flight in Known or Forecast Icing

Install a placard with black letters on a white background. The placard shall be located on the instrument panel in one of the following areas: Under the radio stack, immediately above the pilot's flight instruments, or below the pilot's vertical speed indicator. Lettering on the placard shall be a minimum ⅛-inch tall and state the following:

“Continued flight after encountering moderate or greater icing conditions is prohibited. One or more of the following defines moderate icing conditions for this airplane:

Airspeed in level flight at constant power decreases by 20 KIAS.

Engine torque required to maintain airspeed increases by 400 ft. lbs.

120 KIAS cannot be maintained in level flight.

Ice accretion of ¼ inch observed on the wing strut.”

Appendix 4 to AD 2006-06-06—Changes to the Cessna Models 208 or 208B Pilot's Operating Handbook (POH) and FAA-Approved Airplane Flight Manual Supplement S1

Affected Cessna Models 208 or 208B Pilot's Operating Handbook (POH) and FAA-Approved Airplane Flight Manual (AFM) and FAA-Approved Supplement S1

Insert the following text into the LIMITATIONS section under the “AIRSPEED LIMITATIONS” paragraph of the Cessna Models 208 or 208B Pilot's Operating Handbook (POH) and FAA-Approved Airplane Flight Manual (AFM), and Replace the text in the KNOWN ICING EQUIPMENT SUPPLEMENT S1 under the “MINIMUM SPEED IN ICING CONDITIONS” paragraph with the following text. This may be done by inserting a copy of this AD into the POH/AFM:

Minimum airspeed in icing conditions, for all flight phases including approach, except takeoff and landing:

Flaps up: 120 KIAS

Flaps 10°: 105 KIAS

Flaps 20°: 95 KIAS

Exception for flaps up: when climbing to exit icing conditions airspeed can be reduced to 110 KIAS minimum.

Flaps must be extended during all phases (takeoff and landing included) at airspeeds below 110 KIAS, except adhere to published AFM procedures when operating with ground deicing/anti-icing fluid applied.

WARNING

The aural stall warning system does not function properly in all icing conditions and should not be relied upon to provide adequate stall warning when in icing conditions.”

Note: These are minimum speeds for operations in icing conditions. Disregard any reference to the original speeds within the POH/AFM.

Appendix 5 to AD 2006-06-06—Changes to the Cessna Models 208 or 208B Pilot's Operating Handbook (POH) and FAA-Approved Airplane Flight Manual Supplement S1

Replace the text in the PERFORMANCE section of the POH/AFM KNOWN ICING EQUIPMENT SUPPLEMENT S1 under the “STALL SPEEDS” paragraph with the following text:

“Ice accumulation on the airframe may result in a 20 KIAS increase in stall speed. Either buffet or aural stall warning should be treated as an imminent stall.”

“WARNING—The aural stall warning system does not function properly in all icing conditions and should not be relied upon to provide adequate stall warning when in icing conditions.”

Issued in Kansas City, Missouri, on March 10, 2006.
Kim Smith,
Manager, Small Airplane Directorate, Aircraft Certification Service.

[FR Doc. 06-2544 Filed 3-15-06; 8:45 am]

BILLING CODE 4910-13-P